DEPARTMENT OF ENERGY

Federal Energy Regulatory Commission

[Docket Nos. CP04-223-000 and CP04-293-000]

KeySpan LNG, L.P.; Notice of Intent To Prepare an Environmental Impact Statement for the Proposed Keyspan LNG Facility Upgrade Project, Request for Comments on Environmental Issues, and Notice of Public Scoping Meeting

May 11, 2004.

The staff of the Federal Energy Regulatory Commission (FERC or Commission) will prepare an environmental impact statement (EIS) on KeySpan LNG, L.P.'s (KeySpan LNG) proposed KeySpan LNG Facility Upgrade Project in Providence, Rhode Island. On May 7, 2004, the Commission gave notice that KeySpan LNG filed applications on April 30, 2004, for its proposal under sections 3 and 7 of the Natural Gas Act. That notice gave a deadline of May 21, 2004, for the filing of motions to intervene, protest, and comment.

This instant notice announces the opening of the scoping process the Commission will use to gather input from the public and interested agencies on the project. Your input will help determine which issues need to be evaluated in the EIS. Please note that the scoping period will close on June 11, 2004.

Comments may be submitted in written form or verbally. Further details on how to submit written comments are provided in the Public Participation section of this notice. In lieu of sending written comments, you may attend the public scoping meeting scheduled as follows: FERC Public Scoping Meeting, KeySpan LNG Facility Upgrade Project, Thursday, June 3, 2004, at 7 p.m. Rhode Island College, Providence, 600 Mt. Pleasant Ave. (John Fogarty Life Science Building).

This notice is being sent to residences within 0.5 mile of KeySpan LNG's existing liquefied natural gas (LNG) storage facility and to landowners, businesses, and residents adjacent to a planned natural gas pipeline. It is also being sent to Federal, state, and local government agencies; elected officials; environmental and public interest groups; Native American tribes; other interested parties; and local libraries and newspapers. We ¹ are asking local government representatives to notify their constituents of this planned project and to encourage them to comment on their areas of concern.

¹ ”We,” “us,” and “our” refer to the environmental staff of the FERC's Office of Energy Projects.

Summary of the Proposed Project

KeySpan LNG proposes to upgrade its existing LNG storage facility in Providence, Rhode Island. The upgrade would allow KeySpan LNG to convert the LNG terminal to a facility capable of receiving marine deliveries and to augment the facility's existing vaporization system.

According to KeySpan LNG, the KeySpan LNG Facility Upgrade Project would provide a new source of reliable LNG imports to Rhode Island which would serve the entire New England area, as well as augment the supply of LNG needed to fill the region's LNG storage facilities to meet peak day needs. The project would increase the site's current capacity of 150 million standard cubic feet per day (MMSCFD) to a total of 525 MMSCFD.

The facilities proposed include:

• A new ship berth in the Providence River;

• New liquid unloading arms and a transfer line;

• New vapor return blowers, vapor return line, and loading arm;

• Boil-off-gas compressor and condenser;

• New LNG pumping system;

• Operations control buildings;

• Other ancillary LNG facilities; and

• 1.3 miles of 20-inch-diameter pipeline to transport natural gas from the terminal an existing pipeline currently owned and operated by Algonquin Gas Transmission Company (Algonquin).²

² This interconnecting pipeline would likely be constructed by Algonquin, not KeySpan LNG.

KeySpan LNG would also abandon by removal a 12-inch-diameter LNG barge uploading line to provide space for the new ship vapor return line.

A map depicting the LNG facility location and the pipeline route under consideration is provided in appendix 1.³

³ The appendices referenced in this notice are not being printed in the Federal Register. Copies are available on the Commission's Internet Web site (http://www.ferc.gov) at the “eLibrary” link or from the Commission(s Public Reference Room at (202) 502-8371. For instructions on connecting to eLibrary, refer to the end of this notice. Copies of the appendices were sent to all those receiving this notice in the mail.

KeySpan LNG proposes to complete the project in time for the fall 2005 heating season. To achieve this in-service date, KeySpan LNG is requesting approval to begin construction of the facilities in the spring of 2005. The approximate duration of construction would be 7-9 months.

The EIS Process

The FERC will be the lead Federal agency for this EIS process which is being conducted to satisfy the requirements of the National Environmental Policy Act (NEPA). The FERC will use the EIS to consider the environmental impact that could result if it issues KeySpan the requested authorizations under sections 3 and 7 for its proposed project.

This notice formally announces our preparation of the EIS and the beginning of the process referred to as “scoping.” We are soliciting input from the public and interested agencies to help us focus the analysis in the EIS on the potentially significant environmental issues related to the proposed action.

Our independent analysis of the issues will initially be included in a draft EIS. The draft EIS will be mailed to Federal, State, and local government agencies; elected officials; environmental and public interest groups; Native American tribes; affected landowners; other interested parties; and local libraries and newspapers. A 45-day comment period will be allotted for review of the draft EIS. We will consider all timely comments and revise the document, as necessary, before issuing a final EIS.

By this notice, we are asking these and other Federal, State, and local agencies with jurisdiction and/or special expertise with respect to environmental issues to formally cooperate with us in the preparation of the EIS. Agencies that would like to request cooperating status should follow the instructions for filing comments provided below. Currently, the U.S. Army Corps of Engineers; U.S. Coast Guard; and the Rhode Island Department of Environmental Management, Division of Fish and Wildlife (RIDFW) have expressed their interest in participating as cooperating agencies to satisfy their environmental review responsibilities.

Currently Identified Environmental Issues

We have already identified several issues that we think deserve attention based on a preliminary review of the proposed facilities and the environmental information provided by KeySpan LNG and the RIDFW. The following preliminary list of issues may be changed based on your comments and our analysis:

• Commercial and recreational use of the Providence River;

• Contaminated soils and hazardous wastes; and

• Public safety.

Public Participation

You can make a difference by providing us with your comments or concerns about the proposal. Please focus your comments on the potential environmental effects, reasonable alternatives (including alternative facility sites and pipeline routes), and measures to avoid or lessen environmental impact. The more specific your comments, the more useful they will be. To ensure that your comments are timely and properly recorded, please mail your comments so that they will be received in Washington, DC on or before June 11, 2004, and carefully follow these instructions:

• Send an original and two copies of your letter to: Magalie R. Salas, Secretary, Federal Energy Regulatory Commission, 888 First St., NE., Room 1A, Washington, DC 20426;

• Label one copy of your comments for the attention of Gas Branch 1, DG2E; and

• Reference Docket No. CP04-223-000 on the original and both copies.

The public scoping meeting to be held on June 3, 2004, in Providence is designed to provide another opportunity to offer comments on the proposed project. Interested groups and individuals are encouraged to attend the meeting and to present comments on the environmental issues they believe should be addressed in the EIS. A transcript of the meeting will be made so that your comments will be accurately recorded.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Becoming an Intervenor

In addition to involvement in the EIS scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission(s rules of practice and procedure (18 CFR 385.214) (see appendix 2).⁴ Only intervenors have the right to seek rehearing of the Commission's decision.

⁴ Interventions may also be filed electronically via the Internet in lieu of paper. See the discussion below on filing comments electronically.

Affected landowners and parties with environmental concerns may be granted intervenor status upon showing good cause by stating that they have a clear and direct interest in this proceeding which would not be adequately represented by any other parties. You do not need intervenor status to have your environmental comments considered.

Availability of Additional Information

Additional information about the project is available from the Commission(s Office of External Affairs at 1-866-208-FERC (3372) or on the FERC Internet Web site (http://www.ferc.gov). Using the “eLibrary” link, select “General Search” from the eLibrary menu, enter the selected date range and “Docket Number” (i.e., CP04-223-000), and follow the instructions. Searches may also be done using the phrase “KeySpan LNG Facility Upgrade Project” in the “Text Search” field. For assistance with access to eLibrary, the helpline can be reached at 1-866-208-3676, TTY (202) 502-8659, or at FERCOnlineSupport@ferc.gov. The eLibrary link on the FERC Internet website also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Linda Mitry,
Acting Secretary.

[FR Doc. E4-1173 Filed 5-14-04; 8:45 am]

BILLING CODE 6717-01-P